DEPARTMENT OF ENERGY

Federal Energy Regulatory Commission

Combined Notice of Filings #1

Take notice that the Commission received the following Complaints and Compliance filings in EL Dockets:

Docket Numbers: EL25-48-000; QF25-101-001; QF25-102-001.

Applicants: Clearway & EFS Distributed Solar LLC, Clearway & EFS Distributed Solar LLC, Clearway & EFS Distributed Solar LLC.

Description: Petition for Declaratory Order of Clearway & EFS Distributed Solar LLC.

Filed Date: 1/21/25.

Accession Number: 20250121-5275.

Comment Date: 5 p.m. ET 2/20/25.

Docket Numbers: EL25-52-000.

Applicants: Voltus, Inc. v. Midcontinent Independent System Operator, Inc.

Description: Complaint of Voltus, Inc. v. Midcontinent Independent System Operator, Inc.

Filed Date: 1/24/25.

Accession Number: 20250124-5163.

Comment Date: 5 p.m. ET 2/13/25.

Docket Numbers: EL88-1-011; ER88-31-010; ER88-32-010.

Applicants: Indiana Michigan Power Company, Indiana Michigan Power Company, Indiana & Michigan Electric Company.

Description: Report for 2024 on review of nuclear decommissioning costs and FERC wholesale requirement customer contributions of Indiana Michigan Power Company.

Filed Date: 1/24/25.

Accession Number: 20250124-5191.

Comment Date: 5 p.m. ET 2/13/25.

Take notice that the Commission received the following electric rate filings:

Docket Numbers: ER15-1905-020.

Applicants: AZ721 LLC.

Description: Notice of Change in Status of Amazon Energy LLC.

Filed Date: 1/27/25.

Accession Number: 20250127-5228.

Comment Date: 5 p.m. ET 2/18/25.

Docket Numbers: ER20-1505-009.

Applicants: Basin Electric Power Cooperative.

Description: Notice of Change in Status of Basin Electric Power Cooperative.

Filed Date: 1/27/25.

Accession Number: 20250127-5229.

Comment Date: 5 p.m. ET 2/18/25.

Docket Numbers: ER24-1897-001.

Applicants: Northampton Generating Company, L.P.

Description: Compliance filing: Northampton Change in Status to be effective 1/29/2025.

Filed Date: 1/28/25.

Accession Number: 20250128-5088.

Comment Date: 5 p.m. ET 2/18/25.

Docket Numbers: ER24-2869-001; ER24-2715-001; ER24-2806-001.

Applicants: Prosperity Wind, LLC, Timbermill Wind, LLC, Downeast Wind, LLC.

Description: Notice of Non-Material Change in Status of Downeast Wind, LLC et al.

Filed Date: 1/27/25.

Accession Number: 20250127-5227.

Comment Date: 5 p.m. ET 2/18/25.

Docket Numbers: ER25-72-002.

Applicants: American Transmission Systems, Incorporated, PJM Interconnection, L.L.C.

Description: Tariff Amendment: American Transmission Systems, Incorporated submits tariff filing per 35.17(b): ATSI submits Revised IA—SA No. 7218 to be effective 3/31/2025.

Filed Date: 1/28/25.

Accession Number: 20250128-5038.

Comment Date: 5 p.m. ET 2/18/25.

Docket Numbers: ER25-1062-000.

Applicants: Pluto Energy Storage, LLC.

Description: § 205(d) Rate Filing: Application for Market-Based Rate Authorization to be effective 3/29/2025.

Filed Date: 1/27/25.

Accession Number: 20250127-5189.

Comment Date: 5 p.m. ET 2/18/25.

Docket Numbers: ER25-1063-000.

Applicants: Southwest Power Pool, Inc.

Description: § 205(d) Rate Filing: Revisions Regarding RUC System-Wide Make Whole Payment Distribution Amounts to be effective 4/15/2025.

Filed Date: 1/27/25.

Accession Number: 20250127-5211.

Comment Date: 5 p.m. ET 2/18/25.

Docket Numbers: ER25-1064-000.

Applicants: Southwest Power Pool, Inc.

Description: § 205(d) Rate Filing: 1893R15 Evergy Kansas Central, Inc. NITSA NOA to be effective 1/1/2025.

Filed Date: 1/28/25.

Accession Number: 20250128-5043.

Comment Date: 5 p.m. ET 2/18/25.

Docket Numbers: ER25-1065-000.

Applicants: Southwest Power Pool, Inc.

Description: § 205(d) Rate Filing: 1891R14 Evergy Kansas Central, Inc. NITSA NOA to be effective 1/1/2025.

Filed Date: 1/28/25.

Accession Number: 20250128-5046.

Comment Date: 5 p.m. ET 2/18/25.

Docket Numbers: ER25-1066-000.

Applicants: Southwest Power Pool, Inc.

Description: § 205(d) Rate Filing: 2900R26 KMEA NITSA NOA to be effective 1/1/2025.

Filed Date: 1/28/25.

Accession Number: 20250128-5057.

Comment Date: 5 p.m. ET 2/18/25.

Docket Numbers: ER25-1067-000.

Applicants: American Electric Power Service Corporation.

Description: § 205(d) Rate Filing: AEPSC submits an update to Attachment 1 of the ILDSA—SA No. 1336 to be effective 1/1/2025.

Filed Date: 1/28/25.

Accession Number: 20250128-5059.

Comment Date: 5 p.m. ET 2/18/25.

Docket Numbers: ER25-1068-000.

Applicants: VIOTAS Texas LLC.

Description: § 205(d) Rate Filing: Initial Application to be effective 1/31/2025.

Filed Date: 1/28/25.

Accession Number: 20250128-5062.

Comment Date: 5 p.m. ET 2/18/25.

Docket Numbers: ER25-1069-000.

Applicants: PacifiCorp.

Description: § 205(d) Rate Filing: BPA NITSA—(Idaho Falls Power) Rev 7—SA No. 747 to be effective 2/1/2025.

Filed Date: 1/28/25.

Accession Number: 20250128-5070.

Comment Date: 5 p.m. ET 2/18/25.

Docket Numbers: ER25-1070-000.

Applicants: PacifiCorp.

Description: § 205(d) Rate Filing: BPA NITSA—(SE Idaho Area) Rev 9 (SA No. 746) to be effective 2/1/2025.

Filed Date: 1/28/25.

Accession Number: 20250128-5095.

Comment Date: 5 p.m. ET 2/18/25.

Docket Numbers: ER25-1071-000.

Applicants: RE Papago LLC.

Description: Compliance filing: Certificate of Concurrence to Shared Facilities and Co-Tenancy Agreements to be effective 12/3/2024.

Filed Date: 1/28/25.

Accession Number: 20250128-5102.

Comment Date: 5 p.m. ET 2/18/25.

Docket Numbers: ER25-1072-000.

Applicants: Public Service Company of Colorado.

Description: § 205(d) Rate Filing: 2025-01-28 ACE Dev Co—819-0.0.0 to be effective 10/10/2024.

Filed Date: 1/28/25.

Accession Number: 20250128-5129.

Comment Date: 5 p.m. ET 2/18/25.

Docket Numbers: ER25-1073-000.

Applicants: PJM Interconnection, L.L.C.

Description: Compliance filing: Order No. 904 Compliance to be effective 4/1/2025.

Filed Date: 1/28/25.

Accession Number: 20250128-5134.

Comment Date: 5 p.m. ET 2/18/25.

Docket Numbers: ER25-1074-000.

Applicants: NorthWestern Corporation.

Description: § 205(d) Rate Filing: SA 989—Firm PTP Trans. Service with Energy Keepers Inc. to be effective 4/1/2025.

Filed Date: 1/28/25.

Accession Number: 20250128-5168.

Comment Date: 5 p.m. ET 2/18/25.

Docket Numbers: ER25-1075-000.

Applicants: NorthWestern Corporation.

Description: § 205(d) Rate Filing: SA 990—Firm PTP Trans. Service with Powerex to be effective 4/1/2025.

Filed Date: 1/28/25.

Accession Number: 20250128-5172.

Comment Date: 5 p.m. ET 2/18/25.

Docket Numbers: ER25-1076-000.

Applicants: NorthWestern Corporation.

Description: § 205(d) Rate Filing: SA 997—Firm PTP Trans. Service with Powerex to be effective 4/1/2025.

Filed Date: 1/28/25.

Accession Number: 20250128-5176.

Comment Date: 5 p.m. ET 2/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 28, 2025.
Carlos D. Clay,
Deputy Secretary.

[FR Doc. 2025-02159 Filed 2-3-25; 8:45 am]

BILLING CODE 6717-01-P